DEPARTMENT OF LABOR

Bureau of Labor Statistics

Labor Research Advisory Council; Notice of Meetings and Agenda

The Fall meetings of committees of the Labor Research Advisory Council will be held on December 9, 10, and 11, 2002. All of the meetings will be held in the Conference Center, of the Postal Square Building (PSB), 2 Massachusetts Avenue, NE., Washington, DC.

The Labor Research Advisory Council and its committees advise the Bureau of Labor Statistics with respect to technical matters associated with the Bureau's programs. Membership consists of union research directors and staff members. The schedule and agenda of the meetings are as follows:

Monday, December 9, 2002 9:30 a.m.—Committee on Employment and Unemployment Statistics—Meeting Room 9

1. Review of the new Job Openings and Labor Turnover Survey (JOLTS) data.

2. Review of the new quarterly Covered Employment and Wages (CEW, or ES-202) data release.

3. Review of past and current approaches, and discussion of possible future approaches to benchmarking State and area labor force estimates to the Current Population Survey (CPS).

4. Review of the estimated impact of Census 2000 population weights and new race/ethnicity standards on CPS estimates.

5. Topics for next meeting.

1:30 p.m.—Committee on Occupational Safety and Health Statistics—Meeting Room 9

1. 2001 Census of Fatal Occupational Injuries Briefing.

2. Hispanic Workers in the United States, an Analysis of Employment Distribution, Fatal Occupational Injuries, and Non-Fatal Occupational Injuries and Illnesses (Paper prepared for the National Academy of Sciences).

3. Follow-Back Surveys.

a. Respiratory chemical disease agents.

b. Workplace violence.

c. Truck Drivers.

4. Analysis of New Data on Hours at Work from 2002 Recordkeeping Change.

5. Internet data collection.

6. Other Survey of Occupational Injuries and Illnesses changes and updates

7. Upcoming publications

8. Budget update

9. Topics for next meeting

Tuesday, December 10, 2002 9:30 a.m.—Committee on Compensation and Working Conditions—Meeting Room 9

1. Contract expirations and work stoppages.

2. Discussion of paper on hours of work and paid time off.

3. Current data on Family and Medical Leave.

4. New data releases from the BLS compensation office.

5. New business.

6. Topics for next meeting.

1:30 p.m.—Committee on Prices and Living Conditions—Meeting Room 9

1. Analysis of the behavior of the new, superlative Consumer Price Index (CPI) that the Bureau first released this past August.

2. Discussion of efforts to adjust prices of telecommunications equipment for quality change in the Producer Price Index.

Wednesday, December 11, 2002 9:30 a.m.—Committee on Productivity, Technology and Growth—Meeting Room 9

1. Review of the assumptions underlying the aggregate economic projections

2. Revisions to major sector productivity series

3. Topics for next meeting

Committee on Foreign Labor Statistics—Meeting Room 9

1. International Comparisons of Hours Worked.

2. Technical cooperation activities.

3. Topics for next meeting.

The meetings are open to the public. Persons planning to attend these meetings as observers may want to contact Wilhelmina Abner on 202-691-5970.

Signed at Washington, DC, this 8th day of November, 2002.
Kathleen P. Utgoff,
Commissioner.

[FR Doc. 02-29104 Filed 11-15-02; 8:45 am]

BILLING CODE 4510-24-P